DEPARTMENT OF THE TREASURY

Internal Revenue Service

26 CFR Parts 57 and 602

[TD 9643]

RIN 1545-BL20

Health Insurance Providers Fee

Correction

In rule document 2013-28412 appearing on pages 71476-71493 in the issue of November 29, 2013, make the following correction:

On page 71481, in the second column, in the first full paragraph, in the last line “§ 1.414(c)-(5)” should read “§ 1.414(c)-5)”.

[FR Doc. C1-2013-28412 Filed 1-21-14; 8:45 am]

BILLING CODE 1505-01-D